DEPARTMENT OF COMMERCE

National Oceanic and Atmospheric Administration

RIN 0648-XE911

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Commercial Fisheries Research Foundation and Rhode Island Department of Environmental Management contains all of the required information and warrants further consideration. This Exempted Fishing Permit would allow seven commercial fishing vessels and one party/charter vessel to collect black sea bass catch data while on routine fishing trips and retain a limited amount of black sea bass for laboratory analysis. Regulations under the Magnuson-Stevens Fishery Conservation and Management Act require publication of this notice to provide interested parties the opportunity to comment on applications for proposed Exempted Fishing Permits.

DATES: Comments must be received on or before November 2, 2016.

ADDRESSES: You may submit written comments by any of the following methods:

• Email to: nmfs.gar.efp@noaa.gov. Include in the subject line “BSB Research Fleet EFP.”

• Mail to: John K. Bullard, Regional Administrator, NMFS, Greater Atlantic Regional Fisheries Office, 55 Great Republic Drive, Gloucester, MA 01930. Mark the outside of the envelope “Comments on BSB Research Fleet EFP.”

FOR FURTHER INFORMATION CONTACT: Reid Lichwell, Fisheries Management Specialist, 978-281-9112.

SUPPLEMENTARY INFORMATION: The Commercial Fisheries Research Foundation (CFRF) and Rhode Island Department of Environmental Management (RI DEM) submitted a complete application for an EFP on September 9, 2016, to develop a research fleet that would collect fishery-dependent information on black sea bass for eight months, November 2016 through July 2017. The EFP would authorize seven commercial fishing vessels and one party/charter vessel to collect data on black sea bass catch, and retain a limited amount of black sea bass for a laboratory study conducted by RI DEM. This EFP would exempt the participating vessels from the following Federal regulations:

1. Recreational possession limits specified at 50 CFR 648.145;

2. Commercial and party/charter minimum size limits for black sea bass specified at 50 CFR 648.147(a) and (b) respectively;

The research fleet would be comprised of vessels fishing with different gear types including trawls, lobster pots, gillnets, and hook and line. All gear deployments would be typical of the routine fishing practices associated with the fishery being targeted. All vessels fishing under this research would have either a black sea bass moratorium or charter/party federal permit allowing them to legally land black sea bass. There will be no increase in fishing effort associated with this project.

Each vessel would be randomly selected to conduct sampling events during three trips per month within Southern New England and the Mid-Atlantic Bight. During each sampling event, up to 50 black sea bass would be temporarily held to record their length and sex. Some may be retained for shoreside analysis. Each vessel would be allowed to retain 100 black sea bass per month, not to exceed a cumulative total of 6,400 individual fish or 10,880 lb (4,935 kg) of black sea bass catch over the course of the project.

All legal sized black sea bass retained for sampling by commercial vessels would be reported through a dealer as “research” landings and attributed to the state of Rhode Island's allocated commercial black sea bass quota. Undersize black sea bass retained for sampling would be weighed and recorded as bycatch on all appropriate fishing logs. The participating vessels would be able to sell their additional catch as they typically would under the permits they possess. Catch not retained for sale or sampling will be returned to the sea as soon as practicable. The participating vessels would be issued the appropriate state exemptions to all applicable state regulations. If the Federal commercial coastwide quota for black sea bass is reached and leads to a Federal black sea bass closure, then no retention of black sea bass would occur under this EFP until the fishery reopens.

Vessels fishing under this research permit would be exempt from the commercial and party/charter minimum size limits for black sea bass, to allow for the retention of both adult and undersized juvenile black sea bass. The party/charter vessel would be exempt from the possession limits found at § 648.145 to retain black sea bass for sampling above the designated possession limit; there are no federal commercial possession limits for black sea bass.

If approved, CFRF and RI DEM may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 13, 2016.
Emily H. Menashes,
Acting Director, Office of Sustainable Fisheries, National Marine Fisheries Service.

[FR Doc. 2016-25137 Filed 10-17-16; 8:45 am]

BILLING CODE 3510-22-P